FEDERAL RESERVE SYSTEM

Consumer Advisory Council Solicitation of Nominations for Membership

AGENCY: Board of Governors of the Federal Reserve System.

ACTION: Notice.

SUMMARY: The Board invites the public to nominate qualified individuals for appointment to its Consumer Advisory Council, whose membership represents the interests of consumers, communities, and the financial services industry. The Board plans to appoint up to ten members for terms that will begin in January 2011. Appointments are typically for three years. However, the duration of members' terms may be subject to change pursuant to the implementation of the Dodd-Frank Wall Street Reform and Consumer Protection Act.

DATES: Nominations must be received by September 10, 2010. Nominations not received by September 10 may not be considered.

ADDRESSES: Nominations must include a résumé for each nominee. Electronic nominations are preferred. The appropriate form can be accessed at: https://www.federalreserve.gov/secure/cacnomination/.

If electronic submission is not feasible, the nominations may be mailed (not faxed) to Joseph Firschein, Assistant Director and Community Affairs Officer, Division of Consumer and Community Affairs, Board of Governors of the Federal Reserve System, Washington, DC 20551.

FOR FURTHER INFORMATION CONTACT: Jennifer Kerslake, Secretary of the Council, Division of Consumer and Community Affairs, (202) 452-6470, Board of Governors of the Federal Reserve System, Washington, DC 20551.

SUPPLEMENTARY INFORMATION: The Consumer Advisory Council was established in 1976 at the direction of the Congress to advise the Federal Reserve Board on the exercise of its duties under the Consumer Credit Protection Act and on other consumer-related matters. The Council by law represents the interests both of consumers and of the financial services industry (15 U.S.C. 1691(b)). Under the Rules of Organization and Procedure of the Consumer Advisory Council (12 CFR 267.3), members serve three-year terms that are staggered to provide the Council with continuity. The duration of members' terms may be subject to change pursuant to the implementation of the Dodd-Frank Wall Street Reform and Consumer Protection Act. The Board will continue to use the Council's valuable advice and expertise during the implementation of the Act.

The Board plans to appoint up to ten members for terms that will begin January 1, 2011, to replace members whose terms expire in December 2010. The Board expects to announce the appointments in early January.

Nomination letters should include:

• A résumé for each nominee;

• Nominee's full name, organizational affiliation, title, address, phone and fax numbers, and e-mail address;

• Nominee organization's name, brief description of organization, address, and phone and fax numbers;

• Information about past and present positions held by the nominee, dates, and description of responsibilities;

• A description of the nominee's special knowledge, interests, or experience related to community development and reinvestment, consumer protection regulations, consumer credit, or other consumer financial services issues;

• Positions held in community organizations and on councils and boards; and

• Nominator's full name, organizational affiliation, title, address, phone and fax numbers, and e-mail address.

Individuals may nominate themselves.

The Board is interested in candidates who have familiarity with consumer financial services, community development and reinvestment, and consumer protection regulations, and who are willing to express their views. Candidates do not have to be experts on all levels of consumer financial services or community reinvestment, but they should possess some basic knowledge of the issues. They must be able and willing to make the necessary time commitment to participate in conference calls and prepare for and attend meetings three times a year (usually for two days, including committee meetings). The meetings are held at the Board's offices in Washington, DC. The Board pays travel expenses, lodging, and a nominal honorarium.

In making the appointments, the Board will seek to complement the background of continuing Council members in terms of affiliation and geographic representation. The Board may consider prior years' nominees and does not limit consideration to individuals nominated by the public when making its selection.

Council members whose terms end as of December 31, 2010, are:

Michael Calhoun, President, Center for Responsible Lending, Durham, North Carolina

Alan Cameron, President and Chief Executive Officer, Idaho Credit Union League, Boise, Idaho

Kathleen Engel, Associate Professor of Law, Cleveland-Marshall College of Law, Cleveland, Ohio

Greta Harris, Vice President—Southeast Region, Local Initiatives Support Corporation, Richmond, Virginia

Lorenzo Littles, Consultant, Foundation for Community Empowerment, Grapevine, Texas

Saurabh Narain, Chief Fund Advisor, National Community Investment Fund, Chicago, Illinois

Ronald Phillips, President, Coastal Enterprises, Inc., Wiscasset, Maine

Kevin Rhein, Division President, Wells Fargo Card Services, Minneapolis, Minnesota

Shanna Smith, President and Chief Executive Officer, National Fair Housing Alliance, Washington, District of Columbia

Jennifer Tescher, Director, Center for Financial Services Innovation, Chicago, Illinois

Council members whose terms continue through 2011 and 2012 are:

Maeve Elise Brown, Executive Director, Housing and Economic Rights Advocates, Oakland, California

Paula Bryant-Ellis, Senior Vice President, Community Development Banking Group, BOK Financial Corporation, Tulsa, Oklahoma

Joanne Budde, Chief Executive Officer, Consumer Credit Counseling Service, San Francisco, California

John Carey, Executive Vice President and Chief Administrative Officer, Citi Cards, Long Island City, New York

Tino Diaz, Managing Director and CEO, CharisPros, Miami, Florida

Kerry Doi, President and CEO, Pacific Asian Consortium in Employment, Los Angeles, California

Betsy E. Flynn, President and Vice Chairman, Community Financial Services Bank, Benton, Kentucky

Patricia Garcia Duarte, President and Chief Executive Officer, Neighborhood Housing Services of Phoenix, Inc., Phoenix, Arizona

Ira Goldstein, Director, Policy and Information Services, The Reinvestment Fund, North Philadelphia, Pennsylvania

Mike Griffin, Senior Vice President, KeyBank, N.A., Cleveland, Ohio

Brian Hudson, Sr., Executive Director and CEO, Pennsylvania Housing Finance Agency, Harrisburg, Pennsylvania

Kirsten Keefe, Senior Staff Attorney, Empire Justice Center, Albany, New York

Larry Litton, Jr., President and Chief Executive Officer, Litton Loan Servicing, LP, Houston, Texas

Andy Navarrete, Senior Vice President, Chief Counsel—National Lending, Capital One Financial Corporation, McLean, Virginia

Jim Park, President and Chief Executive Officer, New Vista Asset Management, San Diego, California

Dory Rand, President, Woodstock Institute, Chicago, Illinois

Phyllis Salowe-Kaye, Executive Director, New Jersey Citizen Action, Newark, New Jersey

Corey Stone, Chair, First Community Bank of New Haven, New Haven, Connecticut

Mary Tingerthal, President, Capital Markets Companies, Housing Partnership Network, St. Paul, Minnesota

Mark Wiseman, Principal Assistant Attorney General, Consumer Protection Section, Ohio Attorney General's Office, Cleveland, Ohio

Board of Governors of the Federal Reserve System, July 26, 2010.
Jennifer J. Johnson,
Secretary of the Board.

[FR Doc. 2010-18606 Filed 7-28-10; 8:45 am]

BILLING CODE 6210-01-P